ENVIRONMENTAL PROTECTION AGENCY

40 CFR Part 52

[EPA-R05-OAR-2007-1177; FRL-8559-7]

Approval and Promulgation of Air Quality Implementation Plans; Indiana; Revisions to Particulate Matter Rules

AGENCY: Environmental Protection Agency (EPA).

ACTION: Final rule.

SUMMARY: On March 14, 2008, EPA proposed to approve Indiana's February 21, 2008, request to revise its particulate matter State Implementation Plan (SIP) for sources in Clark, Dearborn, Dubois, Howard, Lake, Marion, St. Joseph, Vanderburgh, Vigo, and Wayne Counties. This SIP revision updated facility names, revised formatting, removed sources no longer in operation, and revised some emission limits. The State submitted air quality modeling analyses that demonstrated that air quality will continue to be protected in the five counties where some emission limits increased. EPA received one letter containing several comments on the proposal. After review of these comments and for the reasons discussed below, EPA is approving this SIP revision request.

DATES: This final rule is effective on May 30, 2008.

ADDRESSES: EPA has established a docket for this action under Docket ID No. EPA-R05-OAR-2007-1177. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Mary Portanova, Environmental Engineer, at (312) 353-5954 before visiting the Region 5 office.

FOR FURTHER INFORMATION CONTACT: Mary Portanova, Environmental Engineer, Criteria Pollutant Section, Air Programs Branch (AR-18J), Environmental Protection Agency, Region 5, 77 West Jackson Boulevard, Chicago, Illinois 60604, (312) 353-5954, Portanova.mary@epa.gov.

SUPPLEMENTARY INFORMATION: Throughout this document whenever “we,” “us,” or “our” is used, we mean EPA. This supplementary information section is arranged as follows:

I. Background

II. Response to Public Comments

III. What Action Is EPA Taking?

IV. Statutory and Executive Order Reviews

I. Background

On November 27, 2007, Indiana submitted to EPA draft revised rules for parallel processing as revisions to the Indiana SIP for particulate matter (PM). Indiana supplemented its submittal with a public hearing transcript and additional technical support documents on December 3, 2007, and submitted final, fully adopted revised rules on February 21, 2008.

Indiana's submittal consisted of revisions to 326 Indiana Administrative Code (IAC) 6.5, Particulate Matter Emission Limitations Except Lake County; and 326 IAC 6.8, Particulate Matter Emission Limitations For Lake County. Portions of 326 IAC 6.5 and 6.8 were unchanged by the submittal, and therefore they remain a part of the Indiana PM SIP as approved on March 22, 2006 (71 FR 14383).

The revised rules apply to facilities in Clark, Dearborn, Dubois, Howard, Lake, Marion, St. Joseph, Vanderburgh, Vigo, and Wayne Counties. They include a variety of changes to Indiana's Federally approved PM SIP rules, such as: Updates to affected facilities' names or emission source identifiers; rule formatting revisions which have no effect on numerical emission limits; the removal of emission limits for individual emission units which no longer exist or operate; and the removal of rules for entire facilities which no longer exist or which no longer operate the PM sources that were listed in the previous PM SIP. Indiana has increased some PM emission limits for sources in Clark, Dubois, Marion, St. Joseph, and Lake Counties. Indiana has also tightened PM emission limits at several sources.

In addition, Indiana relocated the opacity limits and natural gas combustion-only restrictions for its Lake County sources to the facility-specific sections of the rule. The PM limits and any opacity limits and natural gas-only restrictions for each facility are now grouped in a single section.

EPA proposed to approve Indiana's February 21, 2008, SIP revision request on March 14, 2008, (73 FR 13813). The public comment period for the March 14, 2008, proposed rule ended on April 14, 2008. EPA received one comment letter on the March 14, 2008, proposed rule.

II. Response to Public Comments

EPA received several public comments contained in a letter dated April 14, 2008, from the City of Chicago, the People of the State of Illinois, ex rel. Lisa Madigan, Attorney General of the State of Illinois, Natural Resources Defense Council and Environmental Law and Policy Center (Commenters), on behalf of their constituents and members. These comments focused solely on the proposed PM10 emission limits for BP Products North America, Inc.'s Whiting Refinery in Lake County, Indiana (BP).

Comment: The revised limits for BP should include limits on sulfur content. Refinery fuel gas contains more sulfur than natural gas, and the sulfur in the fuel will be converted to fine particulate matter in the atmosphere. BP should be required to reduce the sulfur content of its refinery fuel gas in order to meet the proposed PM10 limit.

Response: Indiana's February 21, 2008, SIP revision request requires the gas-combusting sources at BP to meet a PM10 emission limit of 0.0075 pounds per million British Thermal Units (lb/MMBTU), whether natural gas or refinery fuel gas is used. BP's Title V permit requires testing while refinery gas, which has higher PM10 emissions than natural gas, is being combusted. The required compliance test methods, Methods 201A and 202, are designed to capture both the filterable and condensible PM fractions, including sulfur compounds. An air dispersion modeling analysis demonstrated that Indiana's February 21, 2008, SIP revision request will maintain the PM10 National Ambient Air Quality Standards (NAAQS) in Lake County. Therefore, requiring additional reductions in the sulfur content of BP's refinery fuel gas is not necessary for Federal approval of this SIP revision request.

In further support of its contentions concerning fuel sulfur content, the commenters cite (and, in some cases, incorporate by reference) the following: The Bay Area Quality Management District's BACT guideline for refinery process heaters; EPA's RACT/BACT/LAER Clearinghouse; South Coast Air Quality Management District Regulations; and several permits that contain sulfur content limits more stringent than those for the BP refinery. These documents and provisions are not germane to the air quality issue addressed by EPA's proposal, i.e., whether the proposed emission limits are adequate to maintain the NAAQS. See, e.g., Train v. NRDC, 421 U.S. 60 (1975).

Comment: The AP-42 emission factors for natural gas should be updated and the BP limits based on these factors recalculated accordingly. The emission factors were last updated in July 1998. The stack tests conducted since 1998 would show that the current AP-42 emission factors are overestimations of particulate matter. The AP-42 emission factors for natural gas should be updated and the SIP revision should not be approved until the BP limits reflect the newer AP-42 emission factors.

Response: While IDEM used AP-42 emission factors to set PM10 limits, the test for approval is whether these limits are sufficient to meet the PM10 NAAQS. Such a demonstration has been made by IDEM. EPA manages and maintains an AP-42 emissions factor database. User-supplied updates to the AP-42 emissions factors for natural gas are welcome, but EPA is unaware of any new submissions, including any that would support the commenters' suggestion. Indiana used the most recent available emission factor as a basis for the PM emission limits for BP's gas combustion units in the proposed SIP revision and demonstrated through air dispersion modeling that the proposed SIP revision would meet the PM10 NAAQS. If the AP-42 emission factors overestimate emissions, as the commenters have asserted, then the air dispersion modeling analysis would overestimate PM emissions, yielding a conservative analysis, i.e., one that overpredicts actual emissions and their impacts.

Comment: The limits should require the use of EPA test methods 201 and 202, and BP must be required to install PM continuous emission monitoring systems (CEMs) and conduct annual stack testing to ensure continuous compliance. The commenters approve of the test methods applicable to BP, namely, Methods 201A for filterable PM and 202 for condensible PM. In addition, the commenters request that EPA approval in writing be required for the “excessive temperatures” exception justifying use of Method 5; and that additional language be added stating that alternative methods will only be allowed if EPA determines in writing that the listed methods are otherwise shown to be technologically infeasible and the proposed alternatives are substantially comparable to the listed methods. The public should have an opportunity to submit comments on any proposed alternative method before EPA issues a written approval. In addition, the limits should specify an averaging time, unless the intent is that the limit be met on an instantaneous basis.

EPA Response: The PM test methods applicable to BP require the use of Method 201A for determining filterable particulate matter and Method 202 for determining condensibles. EPA's approval in writing is not necessary to allow use of Method 5 in lieu of Method 201A for the excessive temperature exception, because Method 5 measures all filterable PM, not just PM10, and is therefore a more stringent requirement. In fact, Method 5 in combination with Method 202 would likely result in higher results than Method 201A with Method 202. EPA agrees that an alternative test method would only be allowed if the existing method is infeasible for a particular application, in which case the most appropriate method would be used. Such technical testing issues are not typically subject to public notice. An averaging time is not specified because these limits must be met on an instantaneous basis. Both EPA and IDEM are authorized to require stack testing when appropriate.

CEMs are not appropriate because they only measure filterable PM emissions which, as the commenters have stated, only represent a fraction of the PM emissions.

Comment: Indiana has failed to adequately address controlling PM10 emissions from flares in general. Flares can be significant sources of particulate emissions. EPA should consider whether the proposed SIP revision reflects all applicable requirements that could control particulate emissions from flares at the BP facility.

Response: Flares are an insignificant source of PM10 emissions (contributing less than one percent of BP's PM10 emissions) and therefore, are not included in Indiana's PM10 SIP. Flares operate at high temperatures and their emissions are released at elevated heights. These factors result in efficient combustion and increased dispersion, both of which minimize the ambient impact of any resulting PM emissions. Because of these characteristics, EPA does not anticipate that the emissions from the BP flares would be significant contributors to ambient PM concentrations.

In addition, it is not feasible to establish PM limits for flares because they are not generally amenable to testing, as well as for safety reasons. It should also be noted that the Indiana SIP contains opacity regulations which apply to flares and which can be easily enforced. See 326 IAC 5-1-2(2)(B).

Indiana's February 21, 2008 submittal did not contain PM10 control requirements for flares at the BP refinery and they are therefore not addressed in this final approval. EPA finds this omission acceptable for the reasons stated above.

III. What Action Is EPA Taking?

EPA is approving Indiana's February 21, 2008, PM SIP revision request, consisting of revisions to 326 IAC 6.5 and 326 IAC 6.8.

On March 27, 2008, Indiana provided an updated copy of 326 IAC 6.5 and 326 IAC 6.8 to EPA. This copy includes three State corrections. In the proposed rule, at 73 FR 13815, EPA stated that Indiana was planning to correct an error in the units of the PM emission limit for Kimball Office-Borden (326 IAC 6.5-2-8). Indiana filed a correction notice to correct the error on February 29, 2008. It was posted in the Indiana Register on March 12, 2008. On February 5, 2008, Indiana filed a correction notice to correct the PM emission limit units for Accucast Technology, LLC (326 IAC 6.5-7-14). A copy of this correction notice was included in Indiana's February 21, 2008, submittal and the correction was noted in EPA's March 14, 2008, proposed rule at 73 FR 13817. Indiana's March 27, 2008, submittal also incorporates a third correction notice, which amended minor typographical errors. This correction notice was filed on January 31, 2008, and posted in the Indiana Register on February 20, 2008. A copy of this correction notice was included in Indiana's February 21, 2008, submittal.

Additionally, as a clarification to EPA's proposal, we noted that Indiana's rules were for PM measured as particles with an aerodynamic diameter less than or equal to ten microns in diameter (PM10) for all counties. However, only Lake County is covered by PM10 limits and the remaining counties are covered by PM limits. Although the SIP regulations for sources outside of Lake County are expressed as PM, the State's and EPA's analyses focused on PM10, a subset of PM.

EPA is approving revisions to 325 IAC 6.5, Particulate Matter Emission Limitations Except Lake County, at 326 IAC 6.5-2, Clark County; 326 IAC 6.5-3, Dearborn County; 326 IAC 6.5-4, Dubois County; 326 IAC 6.5-5, Howard County; 326 IAC 6.5-6, Marion County; 326 IAC 6.5-7, St. Joseph County; 326 IAC 6.5-8, Vanderburgh County; 326 IAC 6.5-9, Vigo County; and 326 IAC 6.5-10, Wayne County.

EPA is also approving revisions to 326 IAC 6.8, Particulate Matter Emission Limitations For Lake County, at 326 IAC 6.8-1-1, General Provisions, Applicability; 326 IAC 6.8-1-5, Control strategies; 326 IAC 6.8-1-7, Scope; 326 IAC 6.8-2, Lake County: PM10 Emission Requirements; 326 IAC 6.8-4-1, Lake County: Opacity Limits; Test Methods; 326 IAC 6.8-8-1, Lake County: Continuous Compliance Plan, Applicability; 326 IAC 6.8-9-3, Lake County: PM10 Coke Battery Emission Requirements, Emission limitations; and 326 IAC 6.8-10-1, Lake County: Fugitive Particulate Matter, Applicability.

The following portions of 326 IAC 6.5 were repealed and are no longer a part of the Indiana PM SIP: 326 IAC 6.5-2, Clark County, sections 2, 3, 5, 6, 7, 10, 11, and 12; 326 IAC 6.5-3, Dearborn County, sections 6 and 9; 326 IAC 6.5-4, Dubois County, sections 7, 8, 11, 12, 13, 14, 20, 22, and 23; 326 IAC 6.5-5, Howard County, sections 3, 4, 6, 7, 8, 9, 12, 13, 14, and 15; 326 IAC 6.5-6, Marion County, sections 4, 6, 7, 8, 9, 10, 11, 12, 13, 14, 16, 17, 19, 20, 21, 24, 27, 29, 30, 32, and 36; 326 IAC 6.5-7, St. Joseph County, sections 2, 3, 4, 5, 7, 8, 9, 12, 15, 17, 19, and 20; 326 IAC 6.5-8, Vanderburgh County, sections 2, 3, 4, 5, 6, 7, 8, 9, 10, and 15; 326 IAC 6.5-9, Vigo County, sections 2, 3, 4, 5, 6, 7, 9, 12, 14, 16, 18, 19, and 20; and 326 IAC 6.5-10, Wayne County, sections 4, 7, 8, 10, 17, 18, and 19. EPA is approving their removal from the Indiana PM SIP, as discussed in the March 14, 2008, proposed rule.

The following portions of 326 IAC 6.8 were repealed and are no longer a part of the Indiana PM10 SIP: 326 IAC 6.8-2, Lake County: PM10 Emission Requirements, sections 3, 5, 10, 11, 12, 15, and 23; 326 IAC 6.8-3, Lake County: Opacity Limits; Exceptions to 326 IAC 5-1-2; 326 IAC 6.8-5, Lake County: Opacity Continuous Emissions Monitors; 326 IAC 6.8-6, Lake County: Combustion Sources; Natural Gas; and 326 IAC 6.8-7, Lake County: Site-Specific Control Requirements. EPA is approving their removal from the Indiana PM10 SIP, as discussed in the March 14, 2008, proposed rule.

In addition, please note that for purposes of clarity, EPA is also including provisions currently in Indiana's PM SIP that it has previously approved.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 30, 2008. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter.

Dated: April 22, 2008.
Bharat Mathur,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart P—Indiana

2. Section 52.770 is amended by adding paragraph (c)(187) to read as follows:

§ 52.770 Identification of plan.

* * * * *

(c) * * *

(187) On February 21, 2008, Indiana submitted revisions to its particulate matter SIP. On March 27, 2008, Indiana submitted a corrected copy of its rules. The submittal revises 326 IAC 6.5: Particulate Matter Limitations Except Lake County and 326 IAC 6.8: Particulate Matter Limitations for Lake County. This SIP revision updates facility names, revises formatting, removes sources no longer in operation, and revises some emission limits.

(i) Incorporation by reference. The following sections of Title 326 of the Indiana Administrative Code (IAC) are incorporated by reference:

(A) Indiana Administrative Code Title 326: Air Pollution Control Board, Article 6.5: Particulate Matter Limitations Except Lake County, Rule 1, General Provisions, sections 326 IAC 6.5-1-1 through 326 IAC 6.5-1-7, filed August 10, 2005, effective on September 9, 2005 and previously incorporated by reference (see paragraph (c)(173)(i)(A) of this section).

(B) Indiana Administrative Code Title 326: Air Pollution Control Board, Article 6.5: Particulate Matter Limitations Except Lake County, Rule 2, Clark County, sections 326 IAC 6.5-2-1 through 326 IAC 6.5-2-12, filed January 23, 2008, effective on February 22, 2008 (326 IAC 6.5-2-8 Kimball Office-Borden, filed January 23, 2008, effective on February 22, 2008, errata filed on February 29, 2008).

(C) Indiana Administrative Code Title 326: Air Pollution Control Board, Article 6.5: Particulate Matter Limitations Except Lake County, Rule 3, Dearborn County, sections 326 IAC 6.5-3-1 through 326 IAC 6.5-3-9, filed January 23, 2008, effective on February 22, 2008.

(D) Indiana Administrative Code Title 326: Air Pollution Control Board, Article 6.5: Particulate Matter Limitations Except Lake County, Rule 4, Dubois County, sections 326 IAC 6.5-4-1 through 326 IAC 6.5-4-24, filed January 23, 2008, effective on February 22, 2008.

(E) Indiana Administrative Code Title 326: Air Pollution Control Board, Article 6.5: Particulate Matter Limitations Except Lake County, Rule 5, Howard County, sections 326 IAC 6.5-5-1 through 326 IAC 6.5-5-16, filed January 23, 2008, effective on February 22, 2008.

(F) Indiana Administrative Code Title 326: Air Pollution Control Board, Article 6.5: Particulate Matter Limitations Except Lake County, Rule 6, Marion County, sections 326 IAC 6.5-6-1 through 326 IAC 6.5-6-36, filed January 23, 2008, effective on February 22, 2008 (326 IAC 6.5-6-18, Cargill, Inc., filed January 23, 2008, effective on February 22, 2008, errata filed on January 31, 2008).

(G) Indiana Administrative Code Title 326: Air Pollution Control Board, Article 6.5: Particulate Matter Limitations Except Lake County, Rule 7, St. Joseph County, sections 326 IAC 6.5-7-1 through 326 IAC 6.5-7-20, filed January 23, 2008, effective on February 22, 2008 (326 IAC 6.5-7-14 Accucast Technology, LLC, filed January 23, 2008, effective on February 22, 2008, errata filed on February 5, 2008).

(H) Indiana Administrative Code Title 326: Air Pollution Control Board, Article 6.5: Particulate Matter Limitations Except Lake County, Rule 8, Vanderburgh County, sections 326 IAC 6.5-8-1 through 326 IAC 6.5-8-15, filed January 23, 2008, effective on February 22, 2008.

(I) Indiana Administrative Code Title 326: Air Pollution Control Board, Article 6.5: Particulate Matter Limitations Except Lake County, Rule 9, Vigo County, sections 326 IAC 6.5-9-1 through 326 IAC 6.5-9-20, filed January 23, 2008, effective on February 22, 2008.

(J) Indiana Administrative Code Title 326: Air Pollution Control Board, Article 6.5: Particulate Matter Limitations Except Lake County, Rule 10, Wayne County, sections 326 IAC 6.5-10-1 through 326 IAC 6.5-10-19, filed January 23, 2008, effective on February 22, 2008.

(K) Indiana Administrative Code Title 326: Air Pollution Control Board, Article 6.8: Particulate Matter Limitations For Lake County, Rule 1, General Provisions, sections 326 IAC 6.8-1-1, Applicability, 6.8-1-5, Control strategies, and 6.8-1-7, Scope, filed January 23, 2008, effective on February 22, 2008; and Indiana Administrative Code Title 326: Air Pollution Control Board, Article 6.8: Particulate Matter Limitations For Lake County, Rule 1, General Provisions, sections 326 IAC 6.8-1-1.5, Definitions, 6.8-1-2, Particulate emission limitations; fuel combustion steam generators, asphalt concrete plant, grain elevators, foundries, mineral aggregate operations; modification by commission, 6.8-1-3, Compliance Determination, 6.8-1-4, Compliance schedules, and 6.8-6-6, State implementation plan revisions, filed August 10, 2005, effective on September 9, 2005 and previously incorporated by reference (see paragraph (c)(173)(i)(A) of this section).

(L) Indiana Administrative Code Title 326: Air Pollution Control Board, Article 6.8: Particulate Matter Limitations for Lake County, Rule 2, Lake County: PM10 Emission Requirements, sections 326 IAC 6.8-2-1 through 326 IAC 6.8-2-38, filed January 23, 2008, effective on February 22, 2008 (326 IAC 6.8-2-6 BP Products North America, Inc.-Whiting Refinery, filed January 23, 2008, effective on February 22, 2008, errata filed on February 29, 2008).

(M) Indiana Administrative Code Title 326: Air Pollution Control Board, Article 6.8: Particulate Matter Limitations for Lake County, Rule 3, Lake County: Opacity Limits; Exceptions to 326 IAC 5-1-2, sections 326 IAC 6.8-3-1 through 326 IAC 6.8-3-4, filed January 23, 2008, effective on February 22, 2008.

(N) Indiana Administrative Code Title 326: Air Pollution Control Board, Article 6.8: Particulate Matter Limitations for Lake County, Rule 4, Lake County: Opacity Limits; Test Methods, filed January 23, 2008, effective on February 22, 2008.

(O) Indiana Administrative Code Title 326: Air Pollution Control Board, Article 6.8: Particulate Matter Limitations for Lake County, Rule 5, Lake County: Opacity Continuous Emissions Monitors, Installation and operation of continuous emissions monitors (Repealed), filed January 23, 2008, effective on February 22, 2008.

(P) Indiana Administrative Code Title 326: Air Pollution Control Board, Article 6.8: Particulate Matter Limitations for Lake County, Rule 6, Lake County: Combustion Sources; Natural Gas, sections 326 IAC 6.8-6-1 through 326 IAC 6.8-6-20), filed January 23, 2008, effective on February 22, 2008.

(Q) Indiana Administrative Code Title 326: Air Pollution Control Board, Article 6.8: Particulate Matter Limitations for Lake County, Rule 7, Lake County: Site-Specific Control Requirements, sections 326 IAC 6.8-7-1 through 326 IAC 6.8-7-8, filed January 23, 2008, effective on February 22, 2008.

(R) Indiana Administrative Code Title 326: Air Pollution Control Board, Article 6.8: Particulate Matter Limitations for Lake County, Rule 8, Lake County: Continuous Compliance Plan, section 326 IAC 6.8-8-1 Applicability, filed January 23, 2008, effective on February 22, 2008; and Indiana Administrative Code Title 326: Air Pollution Control Board, Article 6.8: Particulate Matter Limitations for Lake County, Rule 8, Lake County: Continuous Compliance Plan, sections 326 IAC 6.8-8-2 Documentation; operation and maintenance procedures, 326 IAC 6.8-8-3 Plan requirements, 326 IAC 6.8-8-4 Plan; schedule for complying with 326 IAC 6.8-7, 326 IAC 6.8-8-5 Plan; source categories, 326 IAC 6.8-8-6 Plan; particulate matter control equipment; operation and maintenance, 326 IAC 6.8-8-7 Plan; particulate matter control equipment; recording; operation; inspection, 326 IAC 6.8-8-8 Plan; department review, filed August 10, 2005, effective on September 9, 2005 and previously incorporated by reference (see paragraph (c)(173)(i)(A) of this section).

(S) Indiana Administrative Code Title 326: Air Pollution Control Board, Article 6.8: Particulate Matter Limitations for Lake County, Rule 9, Lake County: PM10 Coke Battery Emission Requirements, section 326 IAC 6.8-9-3 Emission limitations, filed January 23, 2008, effective on February 22, 2008; and Indiana Administrative Code Title 326: Air Pollution Control Board, Article 6.8: Particulate Matter Limitations for Lake County, Rule 9, Lake County: PM10 Coke Battery Emission Requirements, sections 326 IAC 6.8-9-1 Applicability, and 326 IAC 6.8-9-2 Definitions, filed August 10, 2005, effective on September 9, 2005 and previously incorporated by reference (see paragraph (c)(173)(i)(A) of this section).

(T) Indiana Administrative Code Title 326: Air Pollution Control Board, Article 6.8: Particulate Matter Limitations for Lake County, Rule 10, Lake County: Fugitive Particulate Matter, section 326 IAC 6.8-10-1 Applicability, filed January 23, 2008, effective on February 22, 2008; and Indiana Administrative Code Title 326: Air Pollution Control Board, Article 6.8: Particulate Matter Limitations for Lake County, Rule 10, Lake County: Fugitive Particulate Matter, sections 326 IAC 6.8-10-2 Definitions, 326 IAC 6.8-10-3 Particulate matter emission limitations, and 326 IAC 6.8-10-4 Compliance requirements; control plans, filed August 10, 2005, effective on September 9, 2005 and previously incorporated by reference (see paragraph (c)(173)(i)(A) of this section).

(U) Indiana Administrative Code Title 326: Air Pollution Control Board, Article 6.8: Particulate Matter Limitations for Lake County, Rule 11, Lake County: Particulate Matter Contingency Measures, sections 326 IAC 6.8-11-1 through 326 IAC 6.8-11-6, filed August 10, 2005, effective on September 9, 2005 and previously incorporated by reference (see paragraph (c)(173)(i)(A) of this section).

(ii) Additional material.

(A) Certificate of Authenticity, Indiana Administrative Code, (As Updated Through March 26, 2008), signed by John M. Ross, Executive Director, Legislative Services Agency.

[FR Doc. E8-9330 Filed 4-29-08; 8:45 am]

BILLING CODE 6560-50-P